FEDERAL COMMUNICATIONS COMMISSION

47 CFR Part 64

[WC Docket No. 04-36, CG Docket No. 03-123, WT Docket No. 96-198 and CC Docket No. 92-105; DA 09-1461]

IP-Enabled Services; Implementation of Sections 255 and 251(a)(2) of the Communications Act of 1934, as Enacted by The Telecommunications Act of 1996: Access to Telecommunications Service, Telecommunications Equipment and Customer Premises Equipment by Persons With Disabilities; Telecommunications Relay Services and Speech-to-Speech Services for Individuals With Hearing and Speech Disabilities

AGENCY: Federal Communications Commission.

ACTION: Final rule; extension of waiver.

SUMMARY: In this document, the Commission, via the Consumer and Governmental Affairs Bureau, extends the limited waiver granted in Implementation of Sections 255 and 251(a)(2) of the Communications Act of 1934, as Enacted by the Telecommunications Act of 1996: Access to Telecommunications Service, Telecommunications Equipment and Customer Premises Equipment by Persons with Disabilities; Telecommunications Relay Services and Speech-to-Speech Services for Individuals with Hearing and Speech Disabilities, Order (2009 TRS 711 Waiver Order), of the requirement that traditional telecommunications relay service (TRS) providers (those providing relay service via the public switched telephone network and a text telephone (TTY)) must automatically and immediately call an appropriate Public Safety Answering Point (PSAP) when receiving an emergency 711-dialed call placed by an interconnected voice over Internet Protocol (VoIP) user.

DATES: Effective June 26, 2009. Traditional TRS providers are granted a waiver until June 29, 2010.

FOR FURTHER INFORMATION CONTACT: Lisa Boehley, Consumer and Governmental Affairs Bureau at (202) 418-7395 (voice), or e-mail: Lisa.Boehley@fcc.gov.

SUPPLEMENTARY INFORMATION: This is a synopsis of the Commission's document DA 09-1461, adopted and released on June 26, 2009. The full text of this document and copies of any subsequently filed documents in this matter will be available for public inspection and copying during regular business hours at the FCC Reference Information Center, Portals II, 445 12th Street, SW., Room CY-A257, Washington, DC 20554. This document and copies of subsequently filed documents in this matter may also be purchased from the Commission's duplicating contractor at Portals II, 445 12th Street, SW., Room CY-B402, Washington, DC 20554. Customers may contact the Commission's duplicating contractor at their Web site: http://www.bcpiweb.com or call 1-800-378-3160. To request materials in accessible formats for people with disabilities (Braille, large print, electronic files, audio format), send an e-mail to fcc504@fcc.gov or call the Consumer and Governmental Affairs Bureau at (202) 418-0530 (voice), (202) 418-0432 (TTY). This document can also be downloaded in Word or Portable Document Format (PDF) at: http://www.fcc.gov/cgb/dro.

Synopsis

1. On June 15, 2007, the Commission released the Report and Order (VoIP TRS Order), published at 72 FR 43546, August 6, 2007, WC Docket No. 04-36, CG Docket No. 03-123, WT Docket No. 96-198 and CC Docket No. 92-105, FCC 07-110. In the VoIP TRS Order, the Commission extended its pre-existing TRS rules to interconnected VoIP providers, including the duty to offer 711 abbreviated dialing access to TRS. The VoIP TRS Order required interconnected VoIP providers to offer 711 abbreviated dialing “to ensure that TRS calls can be made from any telephone, anywhere in the United States, and that such calls will be properly routed to the appropriate relay center.”

2. In the Order and Public Notice Seeking Comment (October 2007 Order and Notice), released on October 9, 2007, published at 72 FR 61813, November 1, 2007, and 72 FR 61882, November 1, 2007, WC Docket No. 04-36, CG Docket No. 03-123, WT Docket No. 96-198 and CC Docket No. 92-105, DA 07-4178, the Commission clarified the 711 abbreviated dialing requirement adopted in the VoIP TRS Order and granted interconnected VoIP providers a six-month waiver of the requirement to route the inbound leg of a 711-dialed call to an “appropriate TRS provider,” as defined by the Commission. The Commission also determined that the geographic location identification challenges associated with interconnected VoIP-originated 711 calls rendered traditional TRS providers unable to consistently identify the “appropriate” PSAP to which to route such calls. On this basis, the Commission found good cause to grant traditional TRS providers a six-month waiver of the obligation set forth in § 64.604(a)(4) of its rules to automatically and immediately route the outbound leg of an interconnected VoIP-originated emergency 711 call to an “appropriate” PSAP.

3. In the 2008 TRS 711 Waiver Order, released on April 4, 2008, published at 73 FR 28057, May 15, 2008, WC Docket No. 04-36, CG Docket No. 03-123, WT Docket No. 96-198 and CC Docket No. 92-105, DA 07-4178, the Commission, via the Consumer and Governmental Affairs Bureau, granted interconnected VoIP providers an extension of time, until March 31, 2009, to route 711-dialed calls to an appropriate relay center, in the context of 711-dialed calls in which the calling party is using a non-geographically relevant telephone number or a nomadic interconnected VoIP service. Traditional TRS providers also were granted an extension of time, until March 31, 2009, to fulfill their obligation to implement a system to automatically and immediately call an appropriate PSAP when receiving an emergency 711-dialed call via an interconnected VoIP service.

4. In the 2009 TRS 711 Waiver Order, released on April 1, 2009, published at 74 FR 20892, May 6, 2009, WC Docket No. 04-36, CG Docket No. 03-123, WT Docket No. 96-198 and CC Docket No. 92-105, DA 09-749, the Commission, via the Consumer and Governmental Affairs Bureau, extended for 90 days (until June 29, 2009) the limited waiver granted to traditional TRS providers in the 2008 TRS 711 Waiver Order. In taking this action, the Commission granted, to the extent provided therein, a petition for extension of waiver filed by AT&T and Sprint from the requirement of § 64.604(a)(4) with respect to traditional TRS providers' duty to automatically and immediately route emergency 711 calls that originate on the network of an interconnected VoIP provider. In view of the continued technical and operational challenges presented by this requirement, the Commission found good cause to grant traditional TRS providers an extension of the waiver of § 64.604(a)(4) until June 29, 2009. The Commission allowed the waiver relief previously granted to interconnected VoIP providers to expire, however, noting that progress had been made toward resolving technical difficulties previously associated with the routing of 711-dialed calls by interconnected VoIP providers.

6. In the Notice accompanying the 2009 TRS 711 Waiver Order, published at 74 FR 21364, May 7, 2009, WC Docket No. 04-36, CG Docket No. 03-123, WT Docket No. 96-198 and CC Docket No. 92-105, DA 09-749, the Commission, via the Consumer and Governmental Affairs Bureau, sought comment on any remaining compliance issues that currently prevent traditional TRS providers from reliably identifying the appropriate PSAP to call when receiving an emergency call via 711 and an interconnected VoIP service. In addition, the Commission sought comment on: (1) The total number of interconnected VoIP-originated 711 TRS calls that are processed annually by interconnected VoIP and traditional TRS providers, and the proportion of those calls that are of an emergency nature; (2) the continuing need, from the consumer's perspective, to be able to dial 711 via TRS in an emergency, rather than dialing 911 directly; (3) any impediments consumers have encountered in attempting to dial 911 directly; (4) the effectiveness of providers' outreach efforts in educating consumers about the importance of dialing 911 directly in an emergency when using a TTY and an interconnected VoIP service; and (5) the continuing use of TTYs by individuals with hearing or speech disabilities and, in particular, the use of TTYs with an interconnected VoIP service.

7. On June 11, 2009, AT&T filed a petition seeking an indefinite extension of the waiver of § 64.604(a)(4), asserting that traditional TRS providers “still cannot determine the appropriate PSAP to route a VoIP-originated 711 emergency call due to the inaccessibility of registered location information.” See Implementation of Sections 255 and 251 (a)(2) of the Communications Act of 1934, as Enacted by the Telecommunications Act of 1996: Access to Telecommunications Service, Telecommunications Equipment and Customer Premises Equipment by Persons with Disabilities; Telecommunications Relay Services and Speech-to-Speech Service for Individuals with Hearing and Speech Disabilities, WC Docket No. 04-36, WT Docket No. 96-198, CG Docket No. 03-123 & CC Docket No. 92-105, Petition for Extension of Wavier at 2 (filed June 11, 2009).

8. In this document, the Commission, via the Consumer and Governmental Affairs Bureau, extends until June 29, 2010, the current limited waiver of § 64.604(a)(4) of the Commission's rules, to the extent it applies to traditional TRS providers' obligation to automatically and immediately route the outbound leg of an interconnected VoIP-originated emergency 711 call to an appropriate PSAP. Notwithstanding this action, the Commission notes that if a caller using a TTY connected to an interconnected VoIP service calls a PSAP directly as a 911-dialed emergency call (as a text-to-text, or TTY-to-TTY call), the 911-dialed call will be routed automatically and immediately through the selective router over the wireline E911 network to the PSAP that serves the caller's Registered Location, just as it would be for a hearing caller via an interconnected VoIP service.

9. The record reflects that the remaining technical and operational challenges of compliance with this requirement are formidable and that a comprehensive resolution of these issues will require significant, ongoing collaboration among a variety of industry stakeholders. At the same time, the comments suggest that the increasing popularity and availability of Internet-based forms of TRS have significantly reduced the number of consumers with broadband Internet access who communicate via a TTY and an interconnected VoIP service, rather than via an Internet-based form of TRS. Moreover, the introduction of more forward-looking solutions, such as the “real-time text” solution described in the record, is likely to diminish further the incidence of TTY use with an interconnected VoIP service. Taken together, these findings lead to the conclusion that, while TTY use by interconnected VoIP consumers may be on the decline, there remain deaf and hard of hearing consumers who continue to rely on TTYs. Therefore, while the Commission finds good cause to extend for an additional year the limited waiver previously granted to traditional TRS providers, in light of the continuing technical and operational challenges described in the record, the Commission declines to extend the waiver indefinitely.

10. Finally, the Commission concludes that, during the period of this waiver, any traditional TRS provider that cannot automatically and immediately route to an appropriate PSAP the outbound leg of an interconnected VoIP-originated emergency 711 call, as required by § 64.604(a)(4) of the Commission's rules, must maintain a system for doing so, to the extent feasible, that accomplishes the proper routing of emergency 711 calls as quickly and efficiently as possible. This waiver is, therefore, conditioned on continued compliance with that requirement. Further, during this period, TRS providers and interconnected VoIP providers must continue to undertake consumer education and outreach designed to remind individuals with hearing or speech disabilities to dial 911 directly (as a text-to-text, TTY-to-TTY call) in an emergency. The Commission also expects TRS providers to continue their collaboration with interconnected VoIP providers and other industry stakeholders in order to resolve any remaining compliance issues associated with the processing and routing of interconnected VoIP-originated 711 emergency calls.

Ordering Clauses

Pursuant to Sections 1, 2, and 225 of the Communications Act of 1934, as amended, 47 U.S.C. 151, 152, and 225, and Sections 0.141, 0.361, and 1.3 of the Commission's rules, 47 CFR 0.141, 0.316 and 1.3, document DA 09-1461 is adopted.

Section 64.604(a)(4) of the Commission's rules, 47 CFR 64.604(a)(4), to the extent that it requires traditional TRS providers to implement a system to automatically and immediately call an appropriate PSAP when receiving an emergency 711-dialed call via an interconnected VoIP service, is waived until June 29, 2010.

Federal Communications Commission.
Suzanne M. Tetreault,
Acting Chief, Consumer and Governmental Affairs Bureau.

[FR Doc. E9-18008 Filed 7-28-09; 8:45 am]

BILLING CODE 6712-01-P